DEPARTMENT OF DEFENSE

Department of the Navy

Notice of Intent To Grant Exclusive Patent License; WarpSpec, Inc.

AGENCY: DoD Department of the Navy, DoD.

ACTION: Notice.

SUMMARY: The invention listed below is assigned to the United States Government as represented by the Secretary of the Navy. The Department of the Navy hereby gives notice of its intent to grant to WarpSpec, Inc., a revocable, nonassignable, exclusive license to practice in the United States, the Government-owned inventions described below:

U.S. Patent 7,999,230 (Navy Case 99997): issued August 16, 2011, entitled “TUNABLE DETECTION SYSTEM AND METHOD OF USE”//U.S. Patent 8,368,996 (Navy Case 99577): Issued February 5, 2013, entitled “TUNABLE DETECTION SYSTEM”//and U.S. Patent 8,526,097 (Navy Case 102056): issued September 3, 2013, entitled “TUNABLE DETECTION SYSTEM.”

DATES: Anyone wishing to object to the grant of this license has fifteen (15) days from the date of this notice to file written objections along with supporting evidence, if any.

ADDRESSES: Written objections are to be filed with Naval Surface Warfare Center, Crane Div, Code OOL, Bldg. 2, 300 Highway 361, Crane, IN 47522-5001.

FOR FURTHER INFORMATION CONTACT: Mr. Christopher Monsey, Naval Surface Warfare Center, Crane Div, Code OOL, Bldg 2, 300 Highway 361, Crane, IN 47522-5001, telephone 812-854-4100.

Authority: 35 U.S.C. 207, 37 CFR part 404.

Dated: July 8, 2015.
N.A. Hagerty-Ford,
Commander, Judge Advocate General's Corps, U.S. Navy, Federal Register Liaison Officer.

[FR Doc. 2015-17332 Filed 7-14-15; 8:45 am]

BILLING CODE 3810-FF-P